JUDICIAL CONFERENCE OF THE UNITED STATES

Meeting of the Judicial Conference Advisory Committee on Rules of Civil Procedure

AGENCY: Judicial Conference of the United States Advisory Committee on Rules of Civil Procedure.

ACTION: Notice of open meeting.

SUMMARY: The Advisory Committee on Rules of Civil Procedure will hold a two-day meeting on proposals to amend Civil Rule 23. The meeting will be open to public observation but not participation.

Date and Time: October 22, 2001, from 10 a.m. to 5 p.m. October 23, 2001, from 8:45 a.m. to 4:30 p.m.

Address: University of Chicago Law School, 1111 East 60 Street, Chicago, Illinois.

FOR FURTHER INFORMATION CONTACT: John K. Rabiej, Chief, Rules Committee Support Office, Administrative Office of the United States Courts, Washington, DC 20544, telephone (202) 502-1820.

Dated: August 22, 2001.
John K. Rabiej,
Chief, Rules Committee Support Office.

[FR Doc. 01-21727 Filed 8-28-01; 8:45 am]

BILLING CODE 2210-55-M